DEPARTMENT OF ENERGY

Federal Energy Regulatory Commission

[Project No. 8051-012]

Willimantic Power Corporation; Notice Soliciting Applications

On August 31, 2020, Willimantic Power Corporation (licensee), a subsidiary of Enel Green Power North America filed a Notice of Intent (NOI) to file an application for a subsequent license for its Willimantic #1 Hydroelectric Project No. 8051, pursuant to section 16.19(b)(3) of the Commission's regulations.¹ On October 23, 2020, Commission staff noticed the NOI and approved the use of the traditional licensing process (TLP) to develop the license application. The existing license for the project expires on November 30, 2025.

¹ On March 22, 2021, Hydroland Omega, LLC, notified the Commission that the Willimantic Power Corporation is a wholly owned subsidiary of Hydroland Omega, LLC and replaced Enel Green Power North America, Inc. as the parent company.

The 684-kilowatt (kW) Willimantic #1 Project is located on the Willimantic River, in Windham County, Connecticut.

The principal project works consist of: (1) a 16-foot-high and 225-foot-long granite block dam with a spillway crest elevation of 182.39 feet mean sea level (msl); (2) a reservoir with a surface area of 3 acres; (3) an intake structure at the north side of the dam; (4) trashracks with a 2-inch clear bar spacing; (5) a head gate with a 120-foot-long, 9-foot-diameter penstock; (6) a powerhouse containing a Kaplan turbine-generator unit with an installed capacity of 684 kilowatts (kW); (7) a 347-foot-long tailrace channel with a tailwater elevation of 159.80 feet msl; (8) a 4,160-Volt (V) generator lead, and a 1500-kVA 600/2,400-V transformer bank; (9) a 520-foot-long, 23,500-V transmission line; and (10) appurtenant facilities. The project operates run-of-river and generates and an estimated average of 1,201,000 kW hours a year.

Pursuant to section 16.20(c) of the Commission's regulations, an existing licensee with a minor license not subject to sections 14 and 15 of the Federal Power Act must file an application for a subsequent license at least 24 months prior to the expiration of the current license.² As stated above, Willimantic Power Corporation's NOI indicated that it would be filing an application for a subsequent license; however, it did not file an application for a subsequent license or an application for an exemption from licensing for the Willimantic #1 Project by the November 30, 2023 deadline.

² 18 CFR 16.20(c) (2022).

Therefore, pursuant to section 16.25(a) of the Commission's regulations, we are soliciting applications from potential applicants other than the existing licensee.³ Interested parties have 90 days from the date of this notice to file a NOI to file an application for a subsequent license. An application for a subsequent license or exemption for the Willimantic #1 Project (No. 8051) may be filed within 18 months of the date of filing the NOI. The existing licensee is prohibited from filing an application either individually or in combination with other entities.⁴

³ Id. § 16.25(a) (2022).

⁴ Id. § 16.24(b)(2) (2022).

Questions concerning this notice should be directed to Jeanne Edwards at (202) 502-6181 or jeanne.edwards@ferc.gov.

Dated: December 14, 2023.
Debbie-Anne A. Reese,
Deputy Secretary.

[FR Doc. 2023-27981 Filed 12-19-23; 8:45 am]

BILLING CODE 6717-01-P